DEPARTMENT OF HOUSING AND URBAN DEVELOPMENT

[Docket No. FR-4665-N-25]

Meeting of the Manufactured Housing Consensus Committee

AGENCY: Office of the Assistant Secretary for Housing—Federal Housing Commissioner, HUD.

ACTION: Notice of upcoming meeting.

SUMMARY: This notice sets forth the schedule and proposed agenda of an upcoming meeting of the Manufactured Housing Consensus Committee (the Committee). The meeting is open to the public and the site is accessible to individuals with disabilities.

DATES: Meetings will be held on Tuesday, November 29, 2005, 8 a.m.-5 p.m.; Wednesday, November 30, 2005, 8 a.m.-5 p.m.; and Thursday, December 1, 2005, 8 a.m.-11 a.m.

ADDRESSES: These meetings will be held at the Radisson Hotel Old Town, Alexandria, 901 North Fairfax Street, Alexandria, Virginia, 22314, telephone (703) 683-6000.

FOR FURTHER INFORMATION CONTACT: William W. Matchneer III, Administrator, Manufactured Housing Program, Office of Consumer and Regulatory Affairs, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App. 2) and 41 CFR 102-3.150. The Manufactured Housing Consensus Committee was established under section 604(a)(3) of the National Manufactured Housing Construction and Safety Standards Act of 1974, as amended by the Manufactured Housing Improvement Act of 2000, 42 U.S.C. 4503(a)(3). The Consensus Committee is charged with providing recommendations to the Secretary to adopt, revise, and interpret manufactured housing construction and safety standards and procedural and enforcement regulations, and with developing proposed model installation standards.

Tentative Agenda

A. Welcome and Introductions.

B. Departmental Status Reports.

C. Installation Standards—Alternative Foundation Systems.

D. Full Committee meeting—By-law changes/processes and procedures/timelines.

E. Dispute Resolution Proposed Rule.

F. Accessibility—Universal Design—Visitability.

H. Public Testimony.

I. Reports and Actions on Committee work.

J. Adjourn.

Dated: November 4, 2005.
Brian D. Montgomery,
Assistant Secretary for Housing—Federal Housing Commissioner.

[FR Doc. E5-6259 Filed 11-10-05; 8:45 am]

BILLING CODE 4210-27-P